DEPARTMENT OF ENERGY

Federal Energy Regulatory Commission

Combined Notice of Filings #2

Take notice that the Commission received the following electric rate filings:

Docket Numbers: ER10-2721-005.

Applicants: El Paso Electric Company.

Description: Non-Material Change in Status Filing of El Paso Electric Company.

Filed Date: 4/15/15.

Accession Number: 20150415-5237.

Comments Due: 5 p.m. ET 5/6/15.

Docket Numbers: ER15-1176-001.

Applicants: South Jersey Energy ISO6, LLC.

Description: Tariff Amendment per 35.17(b): Amendment to Market-Based Rate application to be effective 3/5/2015.

Filed Date: 4/15/15.

Accession Number: 20150415-5255.

Comments Due: 5 p.m. ET 5/6/15.

Docket Numbers: ER15-1177-001.

Applicants: South Jersey Energy ISO7, LLC.

Description: Tariff Amendment per 35.17(b): Amendment to Market-Based Rate Application to be effective 3/5/2015.

Filed Date: 4/15/15.

Accession Number: 20150415-5253.

Comments Due: 5 p.m. ET 5/6/15.

Docket Numbers: ER15-1178-001.

Applicants: South Jersey Energy ISO8, LLC.

Description: Tariff Amendment per 35.17(b): Amendment to Market-Based Rate Application to be effective 3/5/2015.

Filed Date: 4/15/15.

Accession Number: 20150415-5250.

Comments Due: 5 p.m. ET 5/6/15.

Docket Numbers: ER15-1510-000.

Applicants: FirstEnergy Solutions Corp.

Description: Section 205(d) rate filing per 35.13(a)(2)(iii): Normal filing to be effective 4/16/2015.

Filed Date: 4/15/15.

Accession Number: 20150415-5161.

Comments Due: 5 p.m. ET 5/6/15.

Docket Numbers: ER15-1511-000.

Applicants: Southwest Power Pool, Inc.

Description: Section 205(d) rate filing per 35.13(a)(2)(iii): 1166R23 Oklahoma Municipal Power Authority NITSA and NOA to be effective 4/1/2015.

Filed Date: 4/15/15.

Accession Number: 20150415-5238.

Comments Due: 5 p.m. ET 5/6/15.

Docket Numbers: ER15-1512-000.

Applicants: Southwest Power Pool, Inc.

Description: Section 205(d) rate filing per 35.13(a)(2)(iii): 2199 Grand River Dam Authority PTP Notice of Cancellation to be effective 1/27/2015.

Filed Date: 4/15/15.

Accession Number: 20150415-5240.

Comments Due: 5 p.m. ET 5/6/15.

Docket Numbers: ER15-1513-000.

Applicants: Duquesne Conemaugh, LLC.

Description: Section 205(d) rate filing per 35.13(a)(2)(iii): Conemaugh Revisions to be effective 1/30/2015.

Filed Date: 4/15/15.

Accession Number: 20150415-5275.

Comments Due: 5 p.m. ET 5/6/15.

Docket Numbers: ER15-1514-000.

Applicants: Duquesne Keystone, LLC.

Description: Section 205(d) rate filing per 35.13(a)(2)(iii): Revision to MBR to be effective 1/30/2015.

Filed Date: 4/15/15.

Accession Number: 20150415-5280.

Comments Due: 5 p.m. ET 5/6/15.

Take notice that the Commission received the following electric securities filings:

Docket Numbers: ES15-14-000.

Applicants: NorthWestern Corporation.

Description: Supplement to March 19, 2015 Application for Authorization Under Section 204 of the Federal Power Act to Issue Securities of NorthWestern Corporation.

Filed Date: 4/15/15.

Accession Number: 20150415-5155.

Comments Due: 5 p.m. ET 4/27/15.

Docket Numbers: ES15-15-000.

Applicants: ISO New England Inc.

Description: Application of ISO New England Inc. Under Section 204 of the Federal Power Act For An Order Authorizing the Issuance of Securities.

Filed Date: 4/15/15.

Accession Number: 20150415-5165.

Comments Due: 5 p.m. ET 5/6/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 15, 2015.
Nathaniel J. Davis, Sr.,
Deputy Secretary.

[FR Doc. 2015-09178 Filed 4-20-15; 8:45 am]

BILLING CODE 6717-01-P